DEPARTMENT OF THE INTERIOR

Fish and Wildlife Service

[DOI-2023-0010; FF10T03000/234/FXGO16640970500]

Privacy Act of 1974; System of Records

AGENCY: U.S. Fish and Wildlife Service, Interior.

ACTION: Notice of a modified system of records.

SUMMARY: Pursuant to the provisions of the Privacy Act of 1974, as amended, the Department of the Interior (DOI) is issuing a public notice of its intent to modify the U.S. Fish and Wildlife Service (FWS) Privacy Act system of records, INTERIOR/FWS-21, Permits System. FWS is consolidating all of the FWS permits systems of records under this system of records notice (SORN) and making updates to accurately reflect management of the system of records. This modified system will be included in DOI's inventory of record systems.

DATES: This modified system will be effective upon publication. New or modified routine uses will be effective February 12, 2024. Submit comments on or before February 12, 2024.

ADDRESSES: You may send comments identified by docket number [DOI-2023-0010] by any of the following methods:

• Federal eRulemaking Portal: https://www.regulations.gov. Follow the instructions for sending comments.

• Email: DOI_Privacy@ios.doi.gov. Include docket number [DOI-2023-0010] in the subject line of the message.

• U.S. mail or hand-delivery: Teri Barnett, Departmental Privacy Officer, U.S. Department of the Interior, 1849 C Street NW, Room 7112, Washington, DC 20240.

Instructions: All submissions received must include the agency name and docket number [DOI-2023-0010]. All comments received will be posted without change to https://www.regulations.gov, including any personal information provided.

Docket: For access to the docket to read background documents or comments received, go to https://www.regulations.gov.

FOR FURTHER INFORMATION CONTACT: Jennifer L. Schmidt, Associate Privacy Officer, U.S. Fish and Wildlife Service, 5275 Leesburg Pike, MS: IRTM, Falls Church, VA 22041-3803, FWS_privacy@fws.gov or (703) 358-2291.

SUPPLEMENTARY INFORMATION:

I. Background

FWS maintains five permitting systems of records to help FWS perform its conservation and wildlife management mission. These permitting systems enable the collection and maintenance of necessary information about individuals and entities such as businesses, museums, zoos, universities, or government agencies in order to establish and verify their eligibility for a permit or license to conduct varied activities such as development, implementing conservation actions, recreation, subsistence, research and/or rehabilitation that affect wildlife and plants protected under various Federal wildlife laws and treaties and on National Wildlife Refuges or National Fish Hatcheries. FWS has implemented an ePermits System to automate the administration of these permits into one consolidated system in order to standardize and ensure consistency of information collected across FWS and reduce the burden on the public.

FWS is publishing this notice to consolidate all the permitting systems of records listed below under the INTERIOR/FWS-21, Permits System, 68 FR 52610 (September 4, 2003); modification published 73 FR 31877 (June 4, 2008) and 88 FR 16277 (March 16, 2023). FWS will rescind the remaining permits systems of records listed below once this modified INTERIOR/FWS-21 notice is published.

• INTERIOR/FWS-5, National Wildlife Refuge Special Use Permits, 64 FR 29055 (May 28, 1999); modification published 73 FR 31877 (June 4, 2008) and 88 FR 16277 (March 16, 2023);

• INTERIOR/FWS-7, Water Development Project and/or Effluent Discharge Permit Application Review, 46 FR 18367 (March 24, 1981); modification published 73 FR 31877 (June 4, 2008) and 88 FR 16277 (March 16, 2023);

• INTERIOR/FWS-10, National Fish Hatchery Special Use Permits, 64 FR 29055 (May 28, 1999); modification published 73 FR 31877 (June 4, 2008) and 88 FR 16277 (March 16, 2023);

• INTERIOR/FWS-30, Marine Mammals Management, Marking, Tagging and Reporting Program, 58 FR 41803 (August 5, 1993); modification published 73 FR 31877 (June 4, 2008) and 88 FR 16277 (March 16, 2023).

FWS is modifying the AUTHORITY FOR MAINTENANCE OF THE SYSTEM section by adding its establishing legislation, the Fish and Wildlife Act of 195616 U.S.C. 742a et seq. FWS is adding the Alaska National Interests Lands Conservation Act (ANILCA), U.S.C. Titles 16 and 43 (various sections) which authorizes the collection and maintenance of information necessary to administer the Federal Subsistence Management Program. From INTERIOR/FWS-5 and INTERIOR/FWS-10, FWS will also add the Refuge Recreation Act of 1962, 16 U.S.C. 460k—460k-4; The National Wildlife Refuge System Administration Act of 1966, 16 U.S.C. 668dd-ee); and the National Wildlife Refuge System Improvement Act of 1997, Public Law 105-57. These authorities govern the administration and public uses of national wildlife refuges, wetland management districts, and national fish hatcheries. From INTERIOR/FWS-7 FWS is adding the Fish and Wildlife Coordination Act, 16 U.S.C. 661-666c. This Act requires FWS to investigate and report on proposed Federal actions that affect any stream or other body of water and to provide recommendations to minimize impacts on fish and wildlife resources. The authority from INTERIOR/FWS-30, the Marine Mammal Protection Act of 1972, 16 U.S.C. Chapter 31, is already included in INTERIOR/FWS-21 as an authority.

FWS is updating the PURPOSE(S) OF THE SYSTEM section to include additional purposes from the consolidated notices including: to conduct permitted activities on a National Wildlife Refuges or a National Fish Hatchery, to review and comment on other Federal agency permit applications as required by law; to monitor authorized subsistence harvests by Alaska natives, and to help control illegal activities in take, trade, and transport of protected wildlife.

FWS is reorganizing and expanding the CATEGORIES OF INDIVIDUALS COVERED BY THE SYSTEM and the CATEGORIES OF RECORDS IN THE SYSTEM sections. The categories of individuals are grouped into three main categories: (1) FWS employees and contractors with official roles in the permitting process and their profile records; (2) Applicants, including applicant sponsors, affiliates, assistants, and others involved in the permitted activity and application records including waivers and appeals; and (3) Experts, consultants, and other authorized officials within and outside of the Federal government who provide insight or advice on an application, and the records of the agency's decision. This modification will also expand the categories of records listed in the referenced SORNs to cover all permits, licenses and application records received from individuals within and external to the Federal government involved in a specific application or permitting program. The RECORD SOURCE CATEGORIES section will also be expanded to include not only individuals and entities that apply for a permit or license, but also those with an official role in the processing or adjudication of a permit application; others who may have information relevant to an inquiry; and members of the public who interact with FWS through a permit program.

FWS is modifying the ROUTINE USES OF RECORDS MAINTAINED IN THE SYSTEM, INCLUDING CATEGORIES OF USERS AND PURPOSES OF SUCH USES section to ensure the efficient and effective wildlife management and conservation functions, to carry out statutory responsibilities and to promote integrity of the records in the system. FWS is proposing new and modified routine uses in INTERIOR/FWS-21 to make them consistent with DOI standard routine uses and revise them from a numeric to an alphabetic list (A—N). Routine use A has been modified to further clarify disclosures to the Department of Justice or other Federal agencies when necessary in relation to litigation or judicial proceedings. Routine use B has been modified to clarify disclosures to a congressional office to respond to or resolve an individual's request made to that office. Routine use D has been modified to allow DOI to share information with other agencies when there is an indication of a violation of law. Routine use I has been modified to include the sharing of information with grantees and shared service providers of DOI that perform services requiring access to these records on DOI's behalf to carry out the purposes of the system.

Additionally, routine uses from the INTERIOR/FWS-21 SORN were included in this notice as routine uses O-T. Routine use O has been modified to include sharing with international agencies and to clarify that decisions may also be made on licenses. Routine use P was revised to clarify when permitting information must be released to the public for notice and/or comment. Routine use Q was modified to include Tribal and international wildlife and plant agencies for the purpose of exchanging information on permits or licenses to meet applicable permitting requirements. Routine use S has been modified to include sharing information with international authorities who receive, treat or diagnose sick, orphaned, and injured birds. Routine use T was modified to correct the name of the U.S. Government Accountability Office.

Proposed routine use C facilitates sharing of information with the Executive Office of the President to resolve issues concerning individual's records. Proposed routine use E allows DOI to share information with other Federal agencies to assist in the performance of their responsibility to ensure records are accurate and complete, and to respond to requests from individuals who are the subject of the records. Proposed routine use F facilitates sharing of information related to hiring, issuance of a security clearance, or a license, contract, grant or benefit. Proposed routine use G allows sharing with the National Archives and Records Administration to conduct records management inspections. Proposed routine use H allows sharing of information with territorial organizations in response to court orders or for discovery purposes related to litigation. Proposed routine use L allows sharing with OMB in relation to legislative affairs mandated by OMB Circular A-19. Proposed routine use M allows sharing of information with the Department of the Treasury to recover debts owed to the United States. Proposed routine use N allows sharing with the news media and the public, when it is necessary to preserve the confidence in the integrity of DOI, demonstrate the accountability of its officers, employees, or individuals covered in the system, or where there exists a legitimate public interest in the disclosure of the information such as circumstances that support a legitimate law enforcement or public safety function, or protects the public from imminent threat of life or property. Proposed routine uses U-X were added to authorize the release of certain permitting information to the U.S. Department of Agriculture's Animal and Plant Health Inspection Service (APHIS), the U.S. Department of Commerce's National Oceanic and Atmospheric Administration (NOAA), and the U.S. Department of Homeland Security's Customs and Border Patrol, and other Federal, Tribal, State, local and international agencies for the purpose of coordinating response to emergencies or natural disasters. Finally, FWS will make general updates to the remaining sections to accurately reflect management of the system of records in accordance with OMB Circular A-108.

DOI has exempted records maintained in this system from certain provisions of the Privacy Act pursuant to 5 U.S.C. 552a(k)(2). See Privacy Act exemptions at 43 CFR 2.254. This revised notice makes a correction from the previous publication which erroneously referenced Privacy Act exemptions at 5 U.S.C. 552a(j)(2) in the Exemptions section. DOI will apply the exemptions on a case-by-case basis to the extent records from the consolidated system include investigatory material compiled for law enforcement purposes.

Pursuant to 5 U.S.C. 552a(b)(12), FWS may disclose information from this system to consumer reporting agencies as defined in the Fair Credit Reporting Act (15 U.S.C. 1681a(f)) or the Federal Claims Collection Act of 1966 (31 U.S.C. 3701(a)(3)) to aid in the collection of outstanding debts owed to the Federal Government.

II. Privacy Act

The Privacy Act of 1974, as amended, embodies fair information practice principles in a statutory framework governing the means by which Federal agencies collect, maintain, use, and disseminate individuals' records. The Privacy Act applies to records about individuals that are maintained in a “system of records.” A “system of records” is a group of any records under the control of an agency from which information is retrieved by the name of an individual or by some identifying number, symbol, or other identifying particular assigned to the individual. The Privacy Act defines an individual as a United States citizen or lawful permanent resident. Individuals may request access to their own records that are maintained in a system of records in the possession or under the control of DOI by complying with DOI Privacy Act regulations at 43 CFR part 2, subpart K, and following the procedures outlined in the Records Access, Contesting Record, and Notification Procedures sections of this notice.

The Privacy Act requires each agency to publish in the Federal Register a description denoting the existence and character of each system of records that the agency maintains, and the routine uses of each system. The INTERIOR/FWS-21, Permits System, SORN is published in its entirety below. In accordance with 5 U.S.C. 552a(r), DOI has provided a report of this system of records to the Office of Management and Budget and to Congress.

III. Public Participation

You should be aware your entire comment including your personally identifiable information, such as your address, phone number, email address, or any other personal identifying information in your comment, may be made publicly available at any time. While you may request to withhold your personally identifiable information from public review, we cannot guarantee we will be able to do so.

SYSTEM NAME AND NUMBER:

INTERIOR/FWS-21, Permits System.

SECURITY CLASSIFICATION:

Unclassified.

SYSTEM LOCATION:

Information Technology Resources Management (IRTM), U.S. Fish and Wildlife Service, 5275 Leesburg Pike MS: IRTM, Falls Church, VA 22041-3803, FWS Regional Offices and field locations, and DOI/FWS contractor facilities. A current listing of these offices may be obtained by writing to the System Manager/s or by visiting the FWS website at https://www.fws.gov.

SYSTEM MANAGER(S):

(1) Assistant Director, U.S. Fish and Wildlife Service, Division of Migratory Birds, 1849 C Street NW, MS: MB MIB, Washington, DC 20240, has overall responsibility for the policies and procedures used to operate the system.

(2) FWS permitting programs in headquarters and field offices have responsibility for the data inputted and maintained in the system and for responding to requests for records from their respective programs. These programs are as follows:

• Assistant Director, Ecological Services, U.S. Fish and Wildlife Service, 1849 C Street NW, MS: ES MIB, Washington, DC 20240;

• Assistant Director, Office of Law Enforcement, U.S. Fish and Wildlife Service, 5275 Leesburg Pike, MS: OLE, Falls Church, VA 22041-3803;

• Assistant Director, International Affairs, U.S. Fish and Wildlife Service, 5275 Leesburg Pike, MS: DMA, Falls Church, VA 22041-3803;

• Chief, National Wildlife Refuge System, U.S. Fish and Wildlife Service, 1849 C Street NW, MS: NWRS MIB, Washington, DC 20240; and

• Assistant Director, Fish and Aquatic Conservation, U.S. Fish and Wildlife Service, 5275 Leesburg Pike, MS: FAC, Falls Church, VA 22041-3803.

AUTHORITY FOR MAINTENANCE OF THE SYSTEM:

The Fish and Wildlife Act of 1956, 16 U.S.C. 742a et seq.; Refuge Recreation Act of 1962, 16 U.S.C. 460k—460k-4; The National Wildlife Refuge System Administration Act of 1966, 16 U.S.C. 668dd et seq.; The National Wildlife Refuge System Improvement Act of 1977, Pub. L. 105-57; Fish and Wildlife Coordination Act, 16 U.S.C. 661-666c; Bald and Golden Eagle Protection Act, 16 U.S.C. 668-668d; Endangered Species Act of 1973, 16 U.S.C. 1531 et seq.); Migratory Bird Treaty Act, 16 U.S.C. 703-712; Marine Mammal Protection Act of 1972, 16 U.S.C. Chapter 31; Wild Bird Conservation Act, 16 U.S.C. Chapter 69; Lacey Act, 18 U.S.C. 42, and the Lacey Act Amendments, 16 U.S.C. 3371-3378; and the Alaska National Interest Lands Conservation Act (ANILCA), U.S.C. Titles 16 and 43 (various sections).

PURPOSE(S) OF THE SYSTEM:

The purpose of the permits system of records is to establish and verify an applicant's eligibility for a permit or license to conduct activities which affect wildlife and plants protected under various Federal wildlife laws and conservation treaties or on National Wildlife Refuges or National Fish Hatcheries. FWS uses the system to conduct the review and approval or denial process for a permit or license, evaluate the effectiveness of permit programs, meet administrative reporting requirements, generate budget estimates and track performance, and provide the public and permittees with permit-related information. The system also helps FWS monitor the use and trade of protected wildlife and plants including the import and export of wildlife and wildlife products into and out of the U.S.; assess the impact of permitted activities on the conservation and management of species and their habitats, including authorized subsistence harvests by Alaska Natives; help control illegal activities in take, trade, and transport of protected wildlife; analyze data and produce reports on the use and trade in protected wildlife and plants in support of listing decisions and other actions; review and comment on other Federal agency permit applications as required by law, and assist foreign conservation agencies with analyses of international trade in wildlife species between the U.S. and foreign countries.

CATEGORIES OF INDIVIDUALS COVERED BY THE SYSTEM:

Individuals covered by the system include:

(1) Current and former FWS employees and contractors responsible for processing permit or license applications and/or monitoring compliance.

(2) Applicants, including members of the public or individuals acting on behalf of entities such as businesses, museums, zoos, universities, non-governmental organizations (NGOs) and government agencies, who submit an application for a permit or license to conduct certain activities regulated by FWS, or have a permit application or permit itself initiated, issued, amended, modified, inactivated, denied or revoked; permit applicants' business principal officer and/or customs agents, if applicable; and other individuals that may assist the applicant in conducting the permitted activity such as assistants, subcontractors, sub-permittees, associates, or consultants, as well as individuals who provide professional recommendations or personal references.

(3) Expert consultants or others who participate in administering the permit program, have information relevant to an inquiry or application, and/or assist the FWS in make permitting decisions such as State-licensed veterinarians, specialists, Tribal Representatives, or Title 50 Certifying Officials.

The system contains records on corporations and other business entities including Tax Identification Numbers (TINs), which are not subject to the Privacy Act. However, records pertaining to individuals acting on behalf of corporations and other business entities may reflect personal information that is subject to the Privacy Act.

CATEGORIES OF RECORDS IN THE SYSTEM:

The categories of records in the system include:

(1) FWS employee and contractor profile records that contain name, username, title/position, business address, business fax number, business phone number, and business email address to facilitate communication between the permitting program and permit applicants and holders.

(2) Permit and license application records and supporting documentation for permitted activities which include but are not limited to: applicant/holder name, address, date of birth, TIN, or the last four digits of individual applicant's Social Security number if TIN is not available, occupation, home and work phone numbers, facsimile number, email address, type of permit, permit number, region where applicant is located, and application received date, effective date; species, import/export license number, Convention on the International Trade in Endangered Species (CITES) Document Number, Foreign Law Document Number, Custom Document Number; carrier information, insurance coverage if applicable; locational information, time and map of permitted activity; logistical and transportation details including description of onsite or living or working accommodations, vehicle, boat or plane descriptions and license plate numbers, and other related information depending on the permit type; parent or guardian name and contact information for all refuge hunting and fishing permit applicants aged 16 and 17 in case of an emergency; refuge mentored or sponsored hunting and fishing permit applicants' disability status, if applicable; health or medical information in case of an emergency; names and addresses of applicant assistants, subcontractors or sub-permittees; any other certifications, licenses or permits issued by another organization that are required for the permitted activity; current or past history of violations of State, Federal, or local laws or regulations related to fish and wildlife; professional references and institutional affiliations, cooperators or sponsors and their relationship to applicant; and records of requests for reconsideration and appeals of permit or license denials or revocation decisions.

(3) Determinations of eligibility including: decisions, correspondence or evaluations of information to make a decision on an application for a permit, or an appeal of a denial for a permit including Letters of Authorization; documents and records related to the FWS monitoring of activities that occur under the permit or license once issued; and documents that reflect the general administrative processing of the application and permit program such as public review required by certain laws, including comments received, consultations with subject matter experts, within FWS and in State, Federal, local, and foreign agencies for the purpose of obtaining scientific, management, and legal advice.

RECORD SOURCE CATEGORIES:

Records in the system are obtained primarily from permit applicants, permittees and those who have had a permit or license application or permit itself initiated, issued, amended, modified, inactivated, denied, or revoked. Information is also obtained from other individuals or agencies with an official role in the processing or adjudication of a FWS permit application such as DOI and other Federal officials, Tribal, State and local officials, subject matter experts, or others who may have information relevant to an inquiry, and members of the public who communicate, interact with, or request assistance or services from a FWS permit program.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside DOI as a routine use pursuant to 5 U.S.C. 552a(b)(3) as follows:

A. To the Department of Justice (DOJ), including Offices of the U.S. Attorneys, or other Federal agency conducting litigation or in proceedings before any court, adjudicative, or administrative body, when it is relevant or necessary to the litigation and one of the following is a party to the litigation or has an interest in such litigation:

(1) DOI or any component of DOI;

(2) Any other Federal agency appearing before the Office of Hearings and Appeals;

(3) Any DOI employee or former employee acting in his or her official capacity;

(4) Any DOI employee or former employee acting in his or her individual capacity when DOI or DOJ has agreed to represent that employee or pay for private representation of the employee; or

(5) The United States Government or any agency thereof when DOJ determines that DOI is likely to be affected by the proceeding.

B. To a congressional office when requesting information on behalf of, and at the request of, the individual who is the subject of the record.

C. To the Executive Office of the President in response to an inquiry from that office made at the request of the subject of a record or a third party on that person's behalf, or for a purpose compatible with the reason for which the records are collected or maintained.

D. To any criminal, civil, or regulatory law enforcement authority (whether Federal, State, Territorial, local, Tribal or foreign) when a record, either alone or in conjunction with other information, indicates a violation or potential violation of law—criminal, civil, or regulatory in nature, and the disclosure is compatible with the purpose for which the records were compiled.

E. To an official of another Federal agency to provide information needed in the performance of official duties related to reconciling or reconstructing data files or to enable that agency to respond to an inquiry by the individual to whom the record pertains.

F. To Federal, State, Territorial, local, Tribal, or foreign agencies that have requested information relevant or necessary to the hiring, firing or retention of an employee or contractor, or the issuance of a security clearance, license, contract, grant or other benefit, when the disclosure is compatible with the purpose for which the records were compiled.

G. To representatives of the National Archives and Records Administration (NARA) to conduct records management inspections under the authority of 44 U.S.C. 2904 and 2906.

H. To State, Territorial, and local governments and Tribal organizations to provide information needed in response to court order and/or discovery purposes related to litigation, when the disclosure is compatible with the purpose for which the records were compiled.

I. To an expert, consultant, grantee, shared service provider, or contractor (including employees of the contractor) of DOI that performs services requiring access to these records on DOI's behalf to carry out the purposes of the system.

J. To appropriate agencies, entities, and persons when:

(1) DOI suspects or has confirmed that there has been a breach of the system of records;

(2) DOI has determined that as a result of the suspected or confirmed breach there is a risk of harm to individuals, DOI (including its information systems, programs, and operations), the Federal Government, or national security; and

(3) the disclosure made to such agencies, entities, and persons is reasonably necessary to assist in connection with DOI's efforts to respond to the suspected or confirmed breach or to prevent, minimize, or remedy such harm.

K. To another Federal agency or Federal entity, when DOI determines that information from this system of records is reasonably necessary to assist the recipient agency or entity in:

(1) responding to a suspected or confirmed breach; or

(2) preventing, minimizing, or remedying the risk of harm to individuals, the recipient agency or entity (including its information systems, programs, and operations), the Federal Government, or national security, resulting from a suspected or confirmed breach.

L. To the Office of Management and Budget (OMB) during the coordination and clearance process in connection with legislative affairs as mandated by OMB Circular A-19.

M. To the Department of the Treasury to recover debts owed to the United States.

N. To the news media and the public, with the approval of the Public Affairs Officer in consultation with counsel and the Senior Agency Official for Privacy, where there exists a legitimate public interest in the disclosure of the information, except to the extent it is determined that release of the specific information in the context of a particular case would constitute an unwarranted invasion of personal privacy.

O. To subject matter experts, including but not limited to experts in Federal, Tribal, State, local and international agencies, for the purpose of obtaining scientific, management, and legal advice relevant to deciding on an application for a permit or license.

P. To the public as a result of publishing Federal Register notices announcing the receipt of permit applications under the U.S. Endangered Species Act, the Marine Mammal Protection Act, and the Wild Bird Conservation Act to provide the public opportunity to comment and provide relevant information to assist in the decision making; as a result of publishing approved Candidate Conservation Agreements and Assurances (CCAAs), Safe Harbor Agreements (SHAs), and Habitat Conservation Plans; or otherwise required by law.

Q. To Federal, Tribal, State, local and international wildlife and plant agencies for the exchange of information on permits or licenses granted or denied to assure compliance with all applicable permitting requirements.

R. To individuals authorized as Captive-bred Wildlife registrants under the Endangered Species Act for the exchange of captive-born, non-native endangered and threatened species, and to share information on new developments and techniques of captive breeding of these protected species.

S. To Federal, Tribal, State, local and international authorities, federally permitted rehabilitators and licensed veterinarians who are permitted to receive, treat, or diagnose sick, orphaned, and injured birds under the Migratory Bird Treaty Act and the Bald and Golden Eagle Protection Act, and individuals seeking a permitted rehabilitator, in order to place a sick, injured, or orphaned bird in need of care.

T. To the U.S. Government Accountability Office or Congress when the information is required for the evaluation of the permit programs.

U. To the U.S. Department of Agriculture's Animal and Plant Health Inspection Service (APHIS) for the exchange of information related to wildlife damage to agriculture, human health and safety, natural resources, and human property.

V. To the U.S. Department of Commerce's National Oceanic and Atmospheric Administration (NOAA) for the exchange of information related to management of national fisheries.

W. To the U.S. Department of Homeland Security's U.S. Customs and Border Protection to facilitate inspections of wildlife and wildlife product shipments into and out of the U.S. and enforce wildlife import and export laws and regulations.

X. To Federal, Tribal, State, local and international agencies for the purpose of coordinating response to emergencies or natural disasters in regards to wildlife or habitat impacts.

POLICIES AND PRACTICES FOR STORAGE OF RECORDS:

Paper records are contained in file folders stored in file cabinets. Electronic records are contained in removable drives, computer servers, email, and electronic databases.

POLICIES AND PRACTICES FOR RETRIEVAL OF RECORDS:

Records are retrieved primarily by the permit application or file number or the name of permit applicant or holder. Records are also retrieved by date, wildlife species or location.

POLICIES AND PRACTICES FOR RETENTION AND DISPOSAL OF RECORDS:

Records in this system are primarily maintained under the FWS Records Schedule for Permits which is approved by NARA (N1-022-05-01/108). The disposition is temporary. Records are destroyed 10 years after the permit expires.

Approved destruction methods for temporary records that have met their retention period include shredding or pulping paper records and erasing or degaussing electronic records in accordance with Departmental policy and NARA guidelines.

ADMINISTRATIVE, TECHNICAL, AND PHYSICAL SAFEGUARDS:

The records contained in this system are safeguarded in accordance with 43 CFR 2.226 and other applicable security and privacy rules and policies. During normal hours of operation, paper records are maintained in locked file cabinets under the control of authorized personnel. Computer servers on which electronic records are stored are located in secured DOI controlled facilities with physical, technical and administrative levels of security to prevent unauthorized access to the DOI network and information assets. Access is granted to authorized personnel based on roles, and each person granted access to the system must be individually authorized to use the system. A Privacy Act Warning Notice appears on computer monitor screens when records containing information on individuals are first displayed. Data exchanged between the servers and the system is encrypted. Backup tapes are encrypted and stored in a locked and controlled room in a secure, off-site location.

Computerized records systems follow the National Institute of Standards and Technology (NIST) privacy and security standards as developed to comply with the Privacy Act of 1974, as amended, 5 U.S.C. 552a; Paperwork Reduction Act of 1995, 44 U.S.C. 3501 et seq.; Federal Information Security Modernization Act of 2014 (FISMA), 44 U.S.C. 3551 et seq.; and the Federal Information Processing Standards 199: Standards for Security Categorization of Federal Information and Information Systems. The system is hosted in a certified Federal Risk and Authorization Management Program (FedRAMP) cloud-based environment employing security and privacy controls defined by NIST Special Publication (SP) 800-53. The system cloud-based environment meets FedRAMP and FISMA compliance standards for Moderate impact systems. Security controls include multi-factor authentication, database permissions, encryption, firewalls, audit logs, and network system security monitoring, and software controls.

Access to records in the system is limited to authorized personnel who have a need to access the records in the performance of their official duties, and each user's access is restricted to only the functions and data necessary to perform that person's job responsibilities. System administrators and authorized users are trained and required to follow established internal security protocols and must complete all security, privacy, and records management training and sign the DOI Rules of Behavior. A Privacy Impact Assessment was conducted on the ePermits system to ensure that Privacy Act requirements are met, and appropriate privacy controls were implemented to safeguard the personally identifiable information contained in the system.

RECORD ACCESS PROCEDURES:

DOI has exempted portions of this system from the access provisions of the Privacy Act pursuant to 5 U.S.C. 552a(k)(2). FWS will make access determinations on a case-by-case basis.

To the extent that portions of this system are not exempt, an individual requesting access to their records should send a written inquiry to the System Manager identified above. DOI forms and instructions for submitting a Privacy Act request may be obtained from the DOI Privacy Act Requests website at https://www.doi.gov/privacy/privacy-act-requests. The request must include a general description of the records sought and the requester's full name, current address, and sufficient identifying information such as date of birth or other information required for verification of the requester's identity. The request must be signed and dated and be either notarized or submitted under penalty of perjury in accordance with 28 U.S.C. 1746. Requests submitted by mail must be clearly marked “PRIVACY ACT REQUEST FOR ACCESS” on both the envelope and letter. A request for access must meet the requirements of 43 CFR 2.238.

CONTESTING RECORD PROCEDURES:

DOI has exempted portions of this system from the amendment provisions of the Privacy Act pursuant to 5 U.S.C. 552a(k)(2). FWS will make amendment determinations on a case-by-case basis.

To the extent that portions of this system are not exempt, an individual requesting amendment of their records should send a written request to the applicable System Manager as identified above. DOI instructions for submitting a request for amendment of records are available on the DOI Privacy Act Requests website at https://www.doi.gov/privacy/privacy-act-requests. The request must clearly identify the records for which amendment is being sought, the reasons for requesting the amendment, and the proposed amendment to the record. The request must include the requester's full name, current address, and sufficient identifying information such as date of birth or other information required for verification of the requester's identity. The request must be signed and dated and be either notarized or submitted under penalty of perjury in accordance with 28 U.S.C. 1746. Requests submitted by mail must be clearly marked “PRIVACY ACT REQUEST FOR AMENDMENT” on both the envelope and letter. A request for amendment must meet the requirements of 43 CFR 2.246.

NOTIFICATION PROCEDURES:

DOI has exempted portions of this system from the notification provisions of the Privacy Act pursuant to 5 U.S.C. 552a(k)(2). FWS will make notification determinations on a case-by-case basis.

To the extent that portions of this system are not exempt, an individual requesting notification of the existence of records about them should send a written inquiry to the applicable System Manager as identified above. DOI instructions for submitting a request for notification are available on the DOI Privacy Act Requests website at https://www.doi.gov/privacy/privacy-act-requests. The request must include a general description of the records and the requester's full name, current address, and sufficient identifying information such as date of birth or other information required for verification of the requester's identity. The request must be signed and dated and be either notarized or submitted under penalty of perjury in accordance with 28 U.S.C. 1746. Requests submitted by mail must be clearly marked “PRIVACY ACT INQUIRY” on both the envelope and letter. A request for notification must meet the requirements of 43 CFR 2.235.

EXEMPTIONS PROMULGATED FOR THE SYSTEM:

This system contains records related to law enforcement activities that are exempt from certain provisions of the Privacy Act, 5 U.S.C. 552a(k)(2). Pursuant to the Privacy Act, 5 U.S.C. 552a(k)(2), DOI has exempted portions of this system from the following subsections of the Privacy Act: (c)(3), (d), (e)(1), (e)(4)(G) through (e)(4)(I), and (f).

HISTORY:

68 FR 52610 (September 4, 2003); modification published at 73 FR 31877 (June 4, 2008) and 88 FR 16277 (March 16, 2023).

Teri Barnett,
Departmental Privacy Officer, Department of the Interior.

[FR Doc. 2024-00535 Filed 1-11-24; 8:45 am]

BILLING CODE 4333-15-P